DEPARTMENT OF HEALTH AND HUMAN SERVICES

Food and Drug Administration

21 CFR Part 520

Oral Dosage Form New Animal Drugs

CFR Correction

In Title 21 of the Code of Federal Regulations, Parts 500 to 599, revised as of April 1, 2014, on page 147, in § 520.580, the heading for paragraph (d) is restored to read “Conditions of use—”.

[FR Doc. 2015-05128 Filed 3-5-15; 8:45 am]

BILLING CODE 1505-01-D